ENVIRONMENTAL PROTECTION AGENCY

40 CFR Part 300

[FRL-8220-7]

National Oil and Hazardous Substances Pollution Contingency Plan; National Priorities List Update

AGENCY: Environmental Protection Agency (EPA).

ACTION: Notice of deletion of the Cedartown Industries, Inc. Superfund site from the National Priorities List.

SUMMARY: The EPA announces the deletion of the Cedartown Industries, Inc. Site in Cedartown, Polk County, Georgia from the National Priorities List (NPL). The NPL constitutes Appendix B of the National Oil and Hazardous Substances Pollution Contingency Plan (NCP), 40 CFR Part 300, which EPA promulgated pursuant to section 105 of the Comprehensive Environmental Response, Compensation, and Liability Act of 1980 (CERCLA), as amended. EPA and the State of Georgia have determined that the Site poses no significant threat to public health or the environment and, therefore, no further remedial measures pursuant to CERCLA are appropriate.

DATES: Effective Date: This rule will be effective September 19, 2006.

ADDRESSES: EPA has established a docket for this action under Docket Identification No. EPA-R04-SFUND-2006-0385. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories at two locations. Locations, contacts, phone numbers and viewing hours are:

U.S. EPA Records Center, attn: Debbie Jourdan, Atlanta Federal Center, 61 Forsyth Street, S.W., Atlanta, Georgia 30303-8960, Phone: (404) 562-8862.

Hours: 8 a.m. to 4 p.m., Monday through Friday (by appointment only).

Cedartown Public Library, 245 East Avenue, Cedartown, Georgia 30125, Phone: (770) 748-5644.

Hours: 9 a.m. to 6 p.m., Monday through Thursday; 9 a.m. to 5 p.m., Friday; 9 a.m. to 4 p.m., Saturday.

FOR FURTHER INFORMATION CONTACT: Brian Farrier, (404) 562-8952, U.S. Environmental Protection Agency, Region 4, Atlanta Federal Center, 61 Forsyth Street, S.W., Atlanta, Georgia 30303-8960, e-mail at farrier.brian@epa.gov.

SUPPLEMENTARY INFORMATION: The site to be deleted from the NPL is: Cedartown Industries, Inc., Cedartown, Polk County, Georgia. A Notice of Intent to Delete for this Site was published in the Federal Register on May 26, 2006. (Document ID EPA_FRDOC_0001-1161).

The closing date for comments on the Notice of Intent to Delete was June 25, 2006. No comments were received; therefore, EPA has not prepared a Responsiveness Summary. EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: August 23, 2006.
J.I. Palmer, Jr.,
Regional Administrator, Region 4.

40 CFR part 300 is amended as follows:

PART 300—[AMENDED]

1. The authority citation for part 300 continues to read as follows:

Authority: 42 U.S.C. 9601-9657; 33 U.S.C. 1321(c)(2); E.O. 12777, 56 FR 54757, 3 CFR, 1991 Comp., p.351; E.O. 12580, 52 FR 2923, 3 CFR, 1987 Comp., p.193.

Appendix B—[Amended]

2. Table 1 of Appendix B to part 300 is amended by removing the entry for Cedartown Industries, Inc., Cedartown, Georgia.

[FR Doc. E6-15535 Filed 9-18-06; 8:45 am]

BILLING CODE 6560-50-P